DEPARTMENT OF ENERGY

Federal Energy Regulatory Commission

[Docket No. PA02-1-000]

Operational Audit of the California Independent System Operator; Notice of Filing and Request for Comments

January 25, 2002.

Take notice that on January 25, 2002, Vantage Consulting, Inc. filed a report entitled Operational Audit of the California Independent System Operator (Audit Report). The filing is in response to a Commission request for a proposal, dated October 9, 2001, to perform an operational audit of the California Independent System Operator Corporation (ISO). The Audit Report makes recommendations to the Commission with respect to prospective improvements in California markets, including what improvements could help the ISO in effectively performing its increasing responsibilities. The Audit Report states that the list of recommendations contained in Section I.C. of the Audit Report is comprehensive and that it would be almost impossible to simultaneously implement all the recommendations over the same time frame. Copies of the Audit Report are available for public inspection at the Commission in the above-docketed proceeding. The Audit Report is also available on the Internet at ww.ferc.gov/electric/bulkpower.htm.

We invite written comments on the Audit Report's list of specific recommendations set forth in Section I.C. Commenters are to state which of the recommendations, if any, they believe should be adopted and to prioritize those specific recommendations. Commenters also are to discuss an appropriate time frame for implementation of those recommendations that they believe should be adopted.

Comments are to be filed on two dates. The ISO is to file its comments on or before February 15, 2002. All other comments are to be filed on or before March 1, 2002. The latter may respond to the ISO's comments, in addition to commenting on the Audit Report as specified in the preceding paragraph.

Comments must contain an executive summary and must be no longer than 20 pages. To the extent possible, comments should be jointly filed by entities sharing similar views. Comments may be filed on paper or electronically via the Internet. Those filing electronically do not need to make a paper filing. For paper filings, the original and 14 copies of such comments should be submitted to the Office of the Secretary, Federal Energy Regulatory Commission, 888 First Street, NE, Washington DC 20426 and should refer to Docket No. PA02-1-000.

Comments filed via the Internet must be prepared in WordPerfect, MS Word, Portable Document Format, or ASCII format. To file the document, access the Commission's Web site at www.ferc.gov and click on “e-Filing,” and then follow the instructions. First time users will have to establish a user name and password. The Commission will send an automatic acknowledgment to the sender's e-Mail address upon receipt of comments.

User assistance for electronic filing is available at 202-208-0258 or by e-Mail to efiling@ferc.gov. Comments should not be submitted to the e-Mail address. All comments will be placed in the Commission's public files and will be available for inspection in the Commission's Public Reference Room at 888 First Street, NE, Washington DC 20426, during regular business hours. Additionally, all comments may be viewed, printed, or downloaded remotely via the Internet through FERC's home page using the RIMS link. User assistance for RIMS is available at 202-208-2222, or by e-mail to RimsMaster@ferc.gov.

C.B. Spencer,
Acting Secretary.

[FR Doc. 02-2369 Filed 1-30-02; 8:45 am]

BILLING CODE 6717-01-P